GENERAL SERVICES ADMINISTRATION

[OMB Control No. 3090-00XX; Docket No. 2013-0001; Sequence 7]

Information Collection; DigitalGov Customer Satisfaction Survey

AGENCY: Office of Citizen Services and Innovative Technologies (OCSIT), General Services Administration (GSA).

ACTION: Notice of request for comments regarding a new request for an OMB clearance.

SUMMARY: Under the provisions of the Paperwork Reduction Act (44 U.S.C. chapter 35), the Regulatory Secretariat will submit to the Office of Management and Budget (OMB) a request to review and approve a new information collection requirement regarding the DigitalGov Web site Customer Satisfaction Survey.

DATES: Submit comments on or before November 12, 2013.

ADDRESSES: Submit comments identified by Information Collection 3090-00xx; DigitalGov Customer Satisfaction Survey by any of the following methods:

• Regulations.gov: http://www.regulations.gov. Submit comments via the Federal eRulemaking portal for “Information Collection 3090-00xx; DigitalGov Customer Satisfaction Survey”. Select the link “Submit a Comment” that corresponds with “Information Collection 3090-00xx; DigitalGov Customer Satisfaction Survey”. Follow the instructions provided at the “Submit a Comment” screen. Please include your name, company name (if any), and “Information Collection 3090-00xx; DigitalGov Customer Satisfaction Survey” on your attached document.

• Mail: General Services Administration, Regulatory Secretariat (MVCB), 1800 F Street NW., Washington, DC 20405. ATTN: Hada Flowers/IC 3090-00xx; DigitalGov Customer Satisfaction Survey.

Instructions: Please submit comments only and cite “Information Collection 3090-00XX; DigitalGov Customer Satisfaction Survey” in all correspondence related to this collection. All comments received will be posted without change to http://www.regulations.gov, including any personal and/or business confidential information provided.

FOR FURTHER INFORMATION CONTACT: Rachel Flagg, Program Analyst, Center for Excellence in Digital Government, GSA, via email at rachel.flagg@gsa.gov or by phone 509-850-5654.

SUPPLEMENTARY INFORMATION:

A. Public Comments

Public comments are particularly invited on: Whether this collection of information is necessary, whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

B. Purpose

The Digital Government Strategy (May 2012) requires federal agencies to measure performance and customer satisfaction to improve service delivery. Since the Web is a primary channel for agencies to deliver government information and services to the American public, this collection will provide actionable data to help agencies improve their Web sites; enable agency compliance with the Digital Government Strategy; and streamline the PRA review process for Web site surveys, for both OMB and agencies.

Online surveys are an industry best practice, and one of the most efficient ways for agencies to measure customer satisfaction. A random selection of visitors to government Web sites will be given the opportunity to complete a survey. Participation is voluntary and anonymous. Survey questions are documented on HowTo.gov. The data gathered will be used internally by agencies to improve service to government customers.

C. Annual Reporting Burden

(Note, this burden is calculated only for GSA's HowTo.gov Web site.)

The estimated annual burden:

Respondents: 1800.

Responses Per Respondent: 1.

Total Annual Responses: 1800.

Hours Per Response: .03.

Total Burden Hours: 54.

Obtaining Copies of Proposals: Requesters may obtain a copy of the information collection documents from the General Services Administration, Regulatory Secretariat (MVCB), 1800 F Street NW., Washington, DC 20405, telephone 202-501-4755.

Please cite OMB Control No. 3090-XXXX, DigitalGov Customer Satisfaction Survey, in all correspondence.

Dated: September 5, 2013.
Casey Coleman,
Chief Information Officer.

[FR Doc. 2013-22191 Filed 9-11-13; 8:45 am]

BILLING CODE 6820-34-P